DEPARTMENT OF COMMERCE

National Oceanic and Atmospheric Administration

50 CFR Part 660

[Docket No. 051014263-6028-03; I.D. 120805A]

RIN 0648-AU00

Magnuson-Stevens Act Provisions; Fisheries off West Coast States and in the Western Pacific; Pacific Coast Groundfish Fishery; Specifications and Management Measures; Correction

AGENCY: National Marine Fisheries Service (NMFS), National Oceanic and Atmospheric Administration (NOAA), Commerce.

ACTION: Final rule; correction.

SUMMARY: On February 17, 2006, a final rule was published in the Federal Register implementing revisions to the 2006 commercial and recreational groundfish fishery management measures for groundfish taken in the U.S. (exclusive economic zone) EEZ off the coasts of Washington, Oregon, and California. This final rule contained an error in the amendatory language for instruction 2.

DATES: Effective March 1, 2006.

FOR FURTHER INFORMATION CONTACT: Jamie Goen (Northwest Region, NMFS), phone: 206-526-4646; fax: 206-526-6736 and; e-mail: jamie.goen@noaa.gov.

SUPPLEMENTARY INFORMATION: On February 17, 2006, (71 FR 8489) a final rule was published that implemented revisions to the 2006 commercial and recreational groundfish fishery management measures for groundfish taken in the U.S. EEZ off the coasts of Washington, Oregon, and California. This final rule contained an error in the amendatory language for instruction 2.

Correction

In FR Doc. 06-1451, in the issue of Friday, February 17, 2006 (71 FR 8489) beginning on page 8496, in column 3, amendatory instruction 2 and the regulatory text to paragraph (c)(1)(i) introductory text is corrected to read as follows:

2. In § 660.370 paragraph (c)(1)(i) introductory text is revised, and paragraphs (c)(1)(iii), (c)(1)(iv) and (i) are removed to read as follows:

§ 660.370 Specifications and management measures.

* * * * *

(c) * * *

(1) * * *

(i) Trip landing and frequency limits, size limits, all gear. Trip landing and frequency limits have been designated as routine for the following species or species groups: widow rockfish, canary rockfish, yellowtail rockfish, Pacific ocean perch, yelloweye rockfish, black rockfish, blue rockfish, splitnose rockfish, chilipepper rockfish, bocaccio, cowcod, minor nearshore rockfish or shallow and deeper minor nearshore rockfish, shelf or minor shelf rockfish, and minor slope rockfish; DTS complex which is composed of Dover sole, sablefish, shortspine thornyheads, and longspine thornyheads; petrale sole, rex sole, arrowtooth flounder, Pacific sanddabs, and the flatfish complex, which is composed of those species plus any other flatfish species listed at § 660.302; Pacific whiting; lingcod; Pacific cod; spiny dogfish; and “other fish” as a complex consisting of all groundfish species listed at § 660.302 and not otherwise listed as a distinct species or species group. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

Dated: March 22, 2006.
James W. Balsiger,
Acting Deputy Assistant Administrator for Regulatory Programs, National Marine Fisheries Service.

[FR Doc. 06-2929 Filed 3-24-06; 8:45 am]

BILLING CODE 3510-22-S